DEPARTMENT OF TRANSPORTATION

Federal Motor Carrier Safety Administration

[Docket No. FMCSA-2014-0096]

Commercial Driver's License: Commonwealth of Virginia, Department of Motor Vehicles; Application for Exemption

AGENCY: Federal Motor Carrier Safety Administration (FMCSA), DOT.

ACTION: Notice of final disposition; grant of application for exemption.

SUMMARY: FMCSA announces its decision to grant the Commonwealth of Virginia Department of Motor Vehicles (Virginia DMV) and all other State Driver Licensing Agencies (SDLAs) a limited exemption from the commercial driver's license (CDL) regulation. The exemption will allow SDLAs to extend to one year the 90-day timeline specified in 49 CFR 383.77(b)(1), thus enabling them to waive the CDL skills test described in 49 CFR 383.113 for up to a year after separation from military service for veterans regularly or previously employed in a military position requiring operation of a commercial motor vehicle (CMV).

DATES: This exemption is effective from July 8, 2014 to July 8, 2016.

FOR FURTHER INFORMATION CONTACT: Ms. Pearlie Robinson, FMCSA Driver and Carrier Operations Division; Office of Carrier, Driver and Vehicle Safety Standards; Telephone: 202-366-4325. Email: MCPSD@dot.gov.

SUPPLEMENTARY INFORMATION:

Background

FMCSA has authority under 49 U.S.C. 31136(e) and 31315 to grant exemptions from certain parts of the Federal Motor Carrier Safety Regulations. FMCSA must publish a notice of each exemption request in the Federal Register (49 CFR 381.315(a)). The Agency must provide the public an opportunity to inspect the information relevant to the application, including any safety analyses that have been conducted. The Agency must also provide an opportunity for public comment on the request.

The Agency reviews safety analyses and public comments submitted, and determines whether granting the exemption would likely achieve a level of safety equivalent to, or greater than, the level that would be achieved by the current regulation (49 CFR 381.305). The decision of the Agency must be published in the Federal Register (49 CFR 381.315(b)) with the reasons for denying or granting the application and, if granted, the name of the person or class of persons receiving the exemption, and the regulatory provision from which the exemption is granted. The notice must also specify the effective period and explain the terms and conditions of the exemption. The exemption may be renewed (49 CFR 381.300(b)).

Request for Exemption

Virginia DMV requested an exemption from 49 CFR 383.77(b)(1), which allows States to waive the skills test described in section 383.113 for applicants regularly employed or previously employed within the last 90 days in a military position requiring operation of a CMV. Virginia DMV proposed that it be allowed to extend the 90-day timeline to one year following the driver's separation from military service. A copy of the application for exemption is available for review in the docket for this notice. A notice of the application was published on April 7, 2014 (79 FR 19170).

Virginia DMV has a comprehensive Troops-to-Trucks' program that assists service members in obtaining a Virginia CDL and civilian employment in the motor carrier industry. Feedback from the Troops-to-Trucks' military partners has identified the 90-day limit as an obstacle to service members transitioning to civilian life.

Virginia DMV contends that the 90-day timeframe is too short for many of the qualified veterans to utilize while reentering civilian life.

According to Virginia DMV, since July 2012, 183 service members have utilized the 90-day waiver through the Virginia Troops-to-Trucks' program. It anticipates that an exemption would allow an additional 60 to 100 recent veterans to participate in the program per year. The one-year timeframe is consistent with FMCSA's November 2013 Report to Congress regarding a program to assist veterans to acquire CDLs. The American Trucking Associations has estimated that the motor carrier industry needs about 96,000 new drivers every year. Providing additional flexibility in section 383.77(b)(1) will help to expedite the transition of fully trained military truck drivers to civilian employment.

Virginia DMV believes this goal is in the Nation's best interest. A more accessible waiver period would greatly benefit returning veterans. This is consistent with FMCSA's belief that the skills test waiver serves an important function for military personnel returning to the civilian workforce, as stated in the May 9, 2011, Federal Register notice that created the 90-day waiver (76 FR 26853).

In addition, because the issues concerning the Virginia DMV request could be applicable in each of the States, FMCSA requested public comment on whether the exemption, if granted, should cover all State Driver's Licensing Agencies (SDLAs).

Public Comments

Five comments on the application were received. All supported the application. Mr. Patrick Crandall commented, “Our brave veterans deserve all of the support that our community can provide. Extending the 90-day waiver to qualified veterans is the right call.” The Auto Haulers Association of America said, “The proposal by the Commonwealth of Virginia would not adversely affect the safe operation of commercial motor vehicles on the nation's roadways because applicants with a military CDL have been trained and certified to levels of competency which match those required of new applicants.” Additionally, the American Association of Motor Vehicle Administrators, American Trucking Associations and New York State DMV all supported Virginia DMV's application for the exemption and extending the exemption to all SDLAs. All comments are available for review in the docket for this notice.

FMCSA Decision

The FMCSA has evaluated Virginia DMV's application on its merits following full consideration of the comments submitted to the docket, and has decided to grant the exemption from 49 CFR 383.77(b)(1) for a period of 2 years. The exemption covers all SDLAs. FMCSA does not believe that the veterans' driving skills would decrease during the additional 9 months in which this exemption allows them to apply for a waiver of the CDL skills test. This exemption only extends the period during which application for the skills test waiver may be made, and does not revise any other provisions of the regulations. FMCSA determined that the exemption would maintain a level of safety equivalent to, or greater than, the level achieved without the exemption (49 CFR 381.305(a)).

Dated: June 30, 2014.
Anne S. Ferro,
Administrator.

[FR Doc. 2014-15957 Filed 7-7-14; 8:45 am]

BILLING CODE 4910-EX-P